DEPARTMENT OF THE INTERIOR

Bureau of Indian Affairs

25 CFR Part 15

Office of the Secretary

43 CFR Part 30

[BIA-2019-0006; 234A2100DD/AAKC001030/A0A501010.999900]

RIN 1094-AA55

American Indian Probate Regulations; Corrections

AGENCY: Bureau of Indian Affairs, Office of the Secretary, Interior.

ACTION: Correcting amendments.

SUMMARY: On December 20, 2021, the Department of the Interior (Department) published a final rule to update the regulations governing probate of property that the United States holds in trust or restricted status for American Indians. We are publishing several corrections to that final rule in this document. These corrections are editorial in nature and involve no substantiative changes to any applicable regulations.

DATES: These corrections are effective on June 20, 2023.

FOR FURTHER INFORMATION CONTACT: Rachel Lukens, Counsel to the Director, Office of Hearings and Appeals, 801 N Quincy Street, Suite 300, Arlington, VA 22203; (703) 223-9934; email: rachel_lukens@oha.doi.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Department of the Interior finalized updates to its regulations on December 20, 2021 (86 FR 72068) governing probate of property that the United States holds in trust or restricted status for American Indians, in an effort to continually improve the services the Department provides to individual Indians and Tribes. These updates allow the Office of Hearings and Appeals (OHA) to adjudicate probate cases more efficiently. Following publication, the OHA Probate Hearings Division (Ph.D.) realized that, due to the reorganization of the regulations, multiple cross-references within the regulations were now incorrect. In a number of instances editorial changes created ambiguity in the final language. And the final published version does not contain the correct website address for Ph.D. This action makes the necessary editorial corrections to the Department's regulations.

Administrative Procedure

We have determined, pursuant to 5 U.S.C. 553(b)(3)(B), that prior notice and opportunity for public comment are impractical and unnecessary. Public comment could not inform this correction process in any meaningful way. We have further determined that, under 5 U.S.C. 553(d)(3), the agency has good cause to make this rule effective upon publication, as it is important for the proper administration of our programs for our rulemaking documents published in the Federal Register to be complete and accurate.

List of Subjects

25 CFR Part 15

Estates, Indian Law.

43 CFR Part 30

Administrative practice and procedure, Claims, Estates, Indians, Lawyers.

For the reasons given in the preamble, the Department amends part 15 of title 25 and part 30 of title 43 of the Code of Federal Regulations as follows:

Title 25—Indians

Chapter I—Bureau of Indian Affairs, Department of the Interior

PART 15—PROBATE OF INDIAN ESTATES, EXCEPT FOR MEMBERS OF THE OSAGE NATION AND THE FIVE CIVILIZED TRIBES

1. The authority citation for part 15 continues to read as follows:

Authority: 5 U.S.C. 301; 25 U.S.C. 2, 9, 372-74, 410, 2201 et seq.; 44 U.S.C. 3101 et seq.

Subpart C—Preparing the Probate File

§ 15.202 [Amended]

2. Amend § 15.202, in paragraph (b) introductory text, by adding the word “in” before the phrase “the probate file”.

Subpart E—Probate Processing and Distribution

§ 15.404 [Amended]

3. Amend § 15.404, in paragraph (c), by adding the word “a” before the phrase “certification of service”.

§ 15.405 [Amended]

4. Amend § 15.405:

a. In paragraph (a) introductory text, by removing the word “it” and adding in its place the acronym “BIA”; and

b. In paragraph (a)(3), by removing the words “to a” and adding in their place the word “the”.

Title 43—Public Lands: Interior

PART 30—INDIAN PROBATE HEARINGS PROCEDURES

5. The authority citation for part 30 continues to read as follows:

Authority: 5 U.S.C. 301, 503; 25 U.S.C. 9, 372-74, 410, 2201 et seq.; 43 U.S.C. 1201, 1457.

Subpart A—Scope of Part; Definitions

6. Amend § 30.100 by revising paragraph (c)(3) to read as follows:

§ 30.100 How do I use this part?

* * * * *

(c) * * *

(3) §§ 30.183 through 30.189, except for §§ 30.186(a), (b)(2), and (c) and 30.187.

* * * * *

§ 30.101 [Amended]

7. Amend § 30.101, in the definition of “Lineal descendent”, by removing the word “descendent” and adding in its place the word “descendant”.

Subpart H—Renunciation of Interest

§ 30.186 [Amended]

8. Amend § 30.186, in paragraph (b)(1), by removing the reference “§ 30.182 or § 30.183” and adding in its place “§ 30.183 or § 30.184”.

Subpart J—Formal Probate Proceedings

§ 30.211 [Amended]

9. Amend § 30.211:

a. In paragraph (c), by removing the website address “https://www.doi.gov/oha/organization/Ph.D.” and adding in its place “https://www.doi.gov/oha/organization/PHD”.

b. In paragraph (e) introductory text, by removing the phrase “listed in paragraph (e)” and adding in its place “listed in paragraph (f)”; and

c. In paragraph (e)(3), by removing the phrase “listed in paragraph (d)(1) or (2)” and adding in its place “listed in paragraph (e)(1) or (2)”.

§ 30.243 [Amended]

10. Amend § 30.243, in the introductory text, by removing the comma after the words “reopened if”.

§ 30.248 [Amended]

11. Amend § 30.248:

a. In paragraph (a)(5), by removing the reference “§ 30.245(c)” and adding in its place “§ 30.247(c)”.

b. In paragraph (b)(2)(ii), by removing the word “filling” and adding in its place the word “filing”.

Subpart M—Purchase at Probate

§ 30.403 [Amended]

12. Amend § 30.403:

a. In paragraph (a) introductory text, by removing the phrase “as provided in paragraphs (b) and (c)” and adding in its place “as provided in paragraph (e)”; and

b. In paragraph (f), by removing the phrase “conditions in paragraph (c)” and add in its place “conditions in paragraph (e)”.

§ 30.413 [Amended]

13. Amend § 30.413, in paragraph (a)(2), by removing the reference “§ 30.403(c)” and adding in its place “§ 30.403(e)”.

§ 30.415 [Amended]

14. Amend § 30.415, in paragraph (a)(3), by removing the word “Any” and adding the words “You are any” in its place.

§ 30.416 [Amended]

15. Amend § 30.416, in the introductory text, by removing the period and adding a colon in its place.

§ 30.417 [Amended]

16. Amend § 30.417, in paragraph (a) introductory text, by removing the acronym “OST” and adding in its place “BTFA”.

This action is taken pursuant to delegated authority.

Bryan Newland,
Assistant Secretary—Indian Affairs.
Joan M. Mooney,
Principal Deputy Assistant Secretary, Exercising the Delegated Authority of the Assistant Secretary—Policy, Management and Budget.

[FR Doc. 2023-12928 Filed 6-16-23; 8:45 am]

BILLING CODE 4337-15-P